DEPARTMENT OF ENERGY

Federal Energy Regulatory Commission

[Docket No. CP02-420-000]

Red Lake Gas Storage, L.P.; Notice of Meeting With the Hualapai Nation Regarding the Proposed Red Lake Gas Storage Project

January 15, 2003.

The staff of the Federal Energy Regulatory Commission (Commission) is issuing this notice to announce the date and location of a meeting with the Hualapai Nation to address certain issues regarding the proposed Red Lake Gas Storage Project. The meeting will be held on January 24, 2003, at 1 pm, at the Hualapai Nation's Tribal Multipurpose Building in Peach Springs, Arizona 86434.

The Commission staff will be preparing an environmental assessment (EA) for Red Lake Gas Storage, L.P.”s proposed project in Mohave County, Arizona, in cooperation with the U.S. Department of the Interior, Bureau of Land Management (BLM), Arizona Department of Environmental Quality (ADEQ), and the Arizona Game and Fish Department (AGFD). The planned facilities would consist of two solution-mined underground salt caverns, about 52 miles of various diameter pipeline, a 25,000-horsepower (hp) compressor station, a 9,000-hp compressor station, four water withdrawal wells, four brine disposal wells, and appurtenant facilities. The EA will be used by the Commission in its decision-making process to determine whether the project is in the public convenience and necessity.

In view of the potential for impacts to resources of special concern to the Hualapai Nation resulting from construction of the proposed project, the meeting will not be open to the public. Attendance at the meeting will be limited to the Hualapai Tribal Council, members of the Hualapai Tribe, and representatives of the Commission, BLM, ADEQ, and AGFD.

Magalie R. Salas,
Secretary.

[FR Doc. 03-1723 Filed 1-24-03; 8:45 am]

BILLING CODE 6717-01-P